DEPARTMENT OF THE INTERIOR

Bureau of Land Management

[CO-930-1430-ET; COC-17286]

Public Land Order No. 7562; Revocation of Public Land Order No. 5386; Colorado

AGENCY: Bureau of Land Management, Interior.

ACTION: Public land order.

SUMMARY: This order revokes a Public Land Order in it entirety as it affects approximately 40,760 acres of public land withdrawn to protect scenic and primitive values. The land is located within the boundary of the Powderhorn Wilderness Area and the withdrawal is no longer needed.

EFFECTIVE DATE: April 28, 2003.

FOR FURTHER INFORMATION CONTACT: Doris E. Chelius, BLM Colorado State Office, 2850 Youngfield Street, Lakewood, CO 80215-7076, 303-239-3706.

SUPPLEMENTARY INFORMATION: The land is located within the Powderhorn Wilderness Area and will remain closed to surface entry, mining, and mineral leasing.

Order

By virtue of the authority vested in the Secretary of the Interior by Section 204 of the Federal Land Policy and Management Act of 1976, 43 U.S.C. 1714 (1994), it is ordered as follows:

1. Public Land Order No. 5386 which withdrew approximately 40,760 acres of public land to protect scenic and primitive values is hereby revoked in its entirety.

Dated: April 8, 2003.
Rebecca W. Watson,
Assistant Secretary—Land and Minerals Management.

[FR Doc. 03-10317 Filed 4-25-03; 8:45 am]

BILLING CODE 4310-JB-P